DEPARTMENT OF LABOR

Pension and Welfare Benefits Administration

109th Full Meeting of the Advisory Council on Employee Welfare and Pension Benefits Plan; Notice of Meeting

Pursuant to the authority contained in Section 512 of the Employee Retirement Income Security Act of 1974 (ERISA), 29 U.S.C. 1142, the 109th open meeting of the full Advisory Council on Employee Welfare and Pension Benefit Plans will be held Monday, April 3, 2000, in Room S-2508, U.S. Department of Labor Building, Third and Constitution Avenue, NW, Washington, DC 20210.

The purpose of the meeting, which will begin at 1:30 p.m. and end at approximately 3:00 p.m., is to consider the items listed below:

I. Welcome and Introduction and Swearing In of New Council Members

II. Report from the Acting Assistant Secretary of Labor for the Pension and Welfare Benefits Administration (PWBA)

A. PWBA Priorities for 1999

B. Announcement of Council Chair and Vice Chair

III. Introduction of PWBA Senior Staff

IV. Summary of the Final Reports Made by Advisory Council Working Groups for the 1999 Term

V. Determination of Topics to Be Addressed by council Working Groups for 2000

VI. Statements from the General Public

VII. Adjournment

Members of the public are encouraged to file a written statement pertaining to any topics the Council may wish to study for the year concerning ERISA by submitting 20 copies on or before March 28, 2000 to Sharon Morrissey, Executive Secretary, ERISA Advisory Council, U.S. Department of Labor, suite N-5677, 200 Constitution Avenue, NW, Washington, DC 20210. Individuals or representatives of organizations wishing to address the Advisory Council should forward their requests to the Executive Secretary or telephone (202) 219-8753. Oral presentations will be limited to ten minutes, time permitting, but an extended statement may be submitted for the record. Individuals with disabilities, who need special accommodations, should contact Sharon Morrissey by March 28 at the address indicated.

Organizations or individuals may also submit statements for the record without testifying. Twenty (20) copies of such statements should be sent to the Executive Secretary of the Advisory Council at the above address. Papers will be accepted and included in the record of the meeting if received on or before March 28, 2000.

Signed at Washington, DC this 10th day of March 2000.
Leslie Kramerich,
Acting Assistant Secretary, Pension and Welfare Benefits Administration.

[FR Doc. 00-6515 Filed 3-15-00; 8:45 am]

BILLING CODE 4510-29-M